DEPARTMENT OF THE INTERIOR

Fish and Wildlife Service

50 CFR Part 17

Endangered and Threatened Wildlife and Plants; Reopening of Comment Period and Notice of Availability of Draft Economic Analysis on Proposed Critical Habitat Designation for the Great Lakes Breeding Population of the Piping Plover

AGENCY: Fish and Wildlife Service, Interior.

ACTION: Proposed rule; reopening of comment period and notice of availability of draft economic analysis.

SUMMARY: The U.S. Fish and Wildlife Service (Service) announces the availability of the draft economic analysis of the proposed designation of critical habitat for the Great Lakes breeding population of the piping plover. We also provide notice of the reopening of the comment period for the proposal to allow all interested parties to submit written comments on the proposal and on the draft economic analysis. The new comment period will allow all interested parties to submit comments on the draft Economic Analysis and proposed designation. Comments received on the proposal after the close of the original comment period but before this reopening will be incorporated into the public record as a part of this reopening and do not need to be resubmitted.

DATES: The original comment period for the critical habitat proposal closed on September 5, 2000. The comment period is reopened and we will accept comments received on or before October 19, 2000. Any comments that are received after the closing date may not be considered in the final decision on this proposal.

ADDRESSES: Copies of the draft economic analysis for the Great Lakes breeding population of piping plovers are available by writing to Piping Plover Information, U.S. Fish and Wildlife Service, Bishop Henry Whipple Federal Building, 1 Federal Drive, Fort Snelling, Minnesota 55111, on the Internet at http://www.fws.gov/pipingplover, or by calling (612) 713-5350. Written comments on the proposal for the Great Lakes breeding population should be sent to “Piping Plover Comments” at the above address, by e-mail to pipingplovercomments@fws.gov, or by facsimile to (612) 713-5292. Comments and materials received will be available for public inspection, by appointment, during normal business hours at the above Service address.

FOR FURTHER INFORMATION CONTACT: Laura Ragan at the U.S. Fish and Wildlife Service, Bishop Henry Whipple Federal Building, 1 Federal Drive, Fort Snelling, Minnesota 55111-4056. Telephone: (612/713-5157); Fax: (612/713-5292)

SUPPLEMENTARY INFORMATION:

Background

On July 6, 2000, the Service published a proposed rule to designate critical habitat for the Great Lakes breeding population of the piping plover in the Federal Register (65 FR 41812). The piping plover is a small, pale-colored North American shorebird. Its breeding range extends throughout the northern Great Plains, the Great Lakes, and the north Atlantic coast in the United States and Canada. Based on its distribution, three breeding populations of piping plover have been described: the Northern Great Plains population, the Great Lakes population, and the Atlantic Coast population. Although their breeding ranges are separate, their wintering ranges overlap and extend along the Atlantic and Gulf Coasts from southern North Carolina to Mexico and into the West Indies and the Bahamas. The Great Lakes breeding population is listed as endangered under the Endangered Species Act (Act) of 1973, as amended. We proposed a total of approximately 305 kilometers (km) (189 miles (m)) of Great Lakes mainland and island shoreline as critical habitat for this population of the piping plover. The proposed critical habitat is located in 27 counties in Minnesota, Wisconsin, Michigan, Illinois, Indiana, Ohio, Pennsylvania, and New York.

Section 4(b)(2) of the Act requires that the Secretary shall designate or revise critical habitat based upon the best scientific data available and after taking into consideration the economic impact of specifying any particular area as critical habitat. Based upon the previously published proposal to designate critical habitat for the Great Lakes breeding population of piping plovers, we have conducted a draft economic analysis of the proposed critical habitat designation. The draft economic analysis is available at the above Internet and mailing address. In order to accept the best and most current scientific data regarding the critical habitat proposal and the draft economic analysis of the proposal, we reopen the comment period at this time.

The Fish and Wildlife Service has previously conducted and recorded seven public hearings on this critical habitat proposal as required under Section 4(b)(5)(E) of the Act, as amended (16 U.S.C. 1531 et seq.). Due to the expeditious treatment of this proposed critical habitat determination under Federal District Court order as described in the proposed rule, we will not conduct additional hearings and will accept only written comments during the reopened comment period. Previously submitted oral or written comments on this critical habitat proposal need not be resubmitted.

The current comment period on this proposal closes on October 19, 2000. Written comments may be submitted to the Service office in the ADDRESSES section.

Author

The primary author of this notice is Laura Ragan (see ADDRESSES.)

Authority: The authority for this action is the Endangered Species Act of 1973 (16 U.S.C. 1531-1544).

Dated: September 11, 2000.
T.J. Miller,
Chief of Ecological Services, Region 3.

[FR Doc. 00-23995 Filed 9-18-00; 8:45 am]

BILLING CODE 4310-55-P